DEPARTMENT OF HEALTH AND HUMAN SERVICES

Agency for Healthcare Research and Quality Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “The Agency for Healthcare Research and Quality (AHRQ) Health Care Innovations Exchange Innovator Interview and Innovator Email Submission Guidelines.” In accordance with the Paperwork Reduction Act, 44 U.S.C. 3501-3521, AHRQ invites the public to comment on this proposed information collection.

This proposed information collection was previously published in the Federal Register on March 28th, 2014 and allowed 60 days for public comment. No comments were received. The purpose of this notice is to allow an additional 30 days for public comment.

DATES: Comments on this notice must be received by July 17, 2014.

ADDRESSES: Written comments should be submitted to: Doris Lefkowitz, Reports Clearance Officer, AHRQ, by email at doris.lefkowitz@AHRQ.hhs.gov.

Copies of the proposed collection plans, data collection instruments, and specific details on the estimated burden can be obtained from the AHRQ Reports Clearance Officer.

FOR FURTHER INFORMATION CONTACT: Doris Lefkowitz, AHRQ Reports Clearance Officer, (301) 427-1477, or by email at doris.lefkowitz@AHRQ.hhs.gov.

SUPPLEMENTARY INFORMATION:

Proposed Project

“The Agency for Healthcare Research and Quality (AHRQ) Health Care Innovations Exchange Innovator Interview and Innovator Email Submission Guidelines.”

This request for Office of Management and Budget (OMB) review is for renewal of the existing collection that is currently approved under OMB Control No. 0935-0147, AHRQ Health Care Innovations Exchange Innovator Interview and AHRQ Health Care Innovations Exchange Innovator Email Submission Guidelines, which expires on May 31, 2014.

The Health Care Innovations Exchange provides a national-level information hub to foster the implementation and adaptation of innovative strategies and policies that improve health care quality and reduce disparities in the care received by different populations. The Innovations Exchange's target audiences, broadly defined, are current and potential change agents in the U.S. health care system, including clinicians (e.g., physicians, nurses, and other providers), health care administrators, quality improvement professionals, researchers, educators, and policymakers.

The goals of the Health Care Innovations Exchange are to:

(1) Identify health care service delivery and policy innovations and provide a national level repository of searchable innovations and tools that enables health care decision makers to quickly identify ideas and tools that meet their needs. These innovations come from many care settings including inpatient facilities, outpatient facilities, long term care organizations, health plans, and community care settings. They also represent many patient populations, disease conditions, and processes of care such as preventive, acute, and chronic care.

(2) Foster the implementation and adoption of health care service delivery and policy innovations that improve health care quality and reduce disparities in the care received by different populations.

This data collection is being conducted by AHRQ through its contractor, Westat, pursuant to AHRQ's statutory authority (1) to conduct and support research on, and disseminate information on, health care and on systems for the delivery of such care, 42 U.S.C. 299a(a), and (2) to promote innovation in evidence-based health care practices and technologies by promoting education and training and providing technical assistance in the use of health care practice results, 42 U.S.C. 299b-5(a)(4).

Method of Collection

To achieve the first goal of the Innovations Exchange the following data collections will be implemented:

(1) Email submission—Based on experience during the current approval period, approximately 10% of the health care innovations considered for inclusion annually, and their associated innovators, will submit their innovations via email to the Innovations Exchange without prior contact (about 8 annually). Innovators who submit their innovations for possible publication through the email submission process will be considered as will innovations identified by project staff through an array of sources that include: published literature, conference proceedings, news items, list serves, Federal agencies and other government programs and resources, health care foundations, and health care associations.

• To meet the publication target of 75 new innovation profiles per year, a purposive sample of approximately 76 health care innovations will be identified and selected annually, in addition to the email submissions, for a total of 84 innovations considered annually for potential consideration. These innovations will be selected to ensure that innovations included in the Innovations Exchange cover a broad range of health care settings, care processes, policies, priority populations, and clinical conditions. Based on experience, approximately 10% of the candidate innovations either will not meet the inclusion criteria or their innovators will decide not to continue their participation after the interview. Therefore, 90% (75) of the 84 candidate innovations will move into the publication stage each year.

(2) Health care innovator interview—To collect and verify the information required for the innovation profiles, health care innovators will be interviewed by telephone about the following aspects of their innovation: health care problem addressed, impetus for the innovation, goals of the innovation, description of the innovation, sources of funding, evaluation results for the innovation, setting for the innovation, history of planning and implementation for the innovation, and lessons learned concerning the implementation of the innovation. Interviews will be conducted with innovators identified by project staff and those identified through email submission.

(3) Annual follow-up reviews—After the innovation profile is published, on a yearly basis, innovators will be contacted by email to review and update their profiles.

The ultimate decision to publish a detailed profile of an innovation depends on several factors, including an evaluation by AHRQ, AHRQ's priorities, and the number of similar ideas in the Innovations Exchange. AHRQ's priorities include identifying and highlighting innovations (1) that will help reduce disparities in health care and health status; (2) that will have significant impact on the overall value of health care; (3) where the innovators have a strong interest in participating; and (4) that have been supported by AHRQ.

The AHRQ Health Care Innovations Exchange's use of the interview guide and email submission guidelines assists in determining if the suggested innovation: (1) Meets established eligibility criteria of the Innovation Exchange, and (2) addresses AHRQ's priorities.

Access to the AHRQ Health Care Innovations Exchange is freely available to the public at http://www.innovations.ahrq.gov/. Diverse groups use the Innovations Exchange, ranging from nurses and health administrators, quality improvement professionals, researchers and educators. See http://www.innovations.ahrq.gov/aboutaspx which displays information about Innovations Exchange users by role for 2012-2013.

Estimated Annual Respondent Burden

Exhibit 1 shows the estimated annualized burden hours for the respondents' time to participate in this project. Approximately 84 innovators will participate in the initial data collection each year with 75 of those being published to the Innovations Exchange Web site. About 8 innovations will be submitted by email, which requires 30 minutes. All 84 potential innovators will participate in the health care innovator interview, including the 8 submitted via email. The interview will last about 75 minutes, and an average additional 30 minutes is typically required for the innovator to review, comment on, and approve the written profile.

Based on experience, approximately 10% of the candidate innovations either will not meet the inclusion criteria or their innovators will decide not to continue their participation after the interview. Therefore, 90% (75) of the 84 candidate innovations will move into the publication stage each year. Annual follow-up reviews will be conducted with all innovations that have been in the Innovations Exchange for at least one full year. With an expected total of 825 innovations in the Exchange by the end of the current approval period, and an additional 225 to be added over the course of the next 3-year approval period (75 per year), an average of 800 reviews will be conducted annually and will require about 15 minutes to complete. The number of profiles undergoing annual review will increase annually from 825 in the first year, to 900 in the second year, and 975 in the third year. The average annualized number of annual follow-up reviews is projected to be 800 as it is anticipated that approximately 100 profiles will be archived over three years. Archived profiles are excluded from annual review. The total annualized burden is estimated to be 347 hours.

Exhibit 1—Estimated Annualized Burden Hours
Form name | Number of respondents | Number of responses per respondent | Hours per response | Total burden hours
Email submission | 8 | 1 | 30/60 | 4
Health care innovator interview | 84 | 1 | 75/60 | 105
Innovator review and approval of written profile | 75 | 1 | 30/60 | 38
Annual follow-up reviews | 800 | 1 | 15/60 | 200
Total | 967 |  |  | 347

Exhibit 2 shows the estimated annualized cost burden associated with the respondents' time to participate in this project. The total annualized cost burden is estimated to be $21,220.

Exhibit 2—Estimated Annualized Cost Burden
Form name | Number of respondents | Total burden hours | Average hourly wage rate * | Total cost burden
Email submission | 8 | 4 | $61.15 | $245
Health care innovator interview | 84 | 105 | 61.15 | 6,421
Innovator review and approval of written profile | 75 | 38 | 61.15 | 2,324
Annual follow-up reviews | 800 | 200 | 61.15 | 12,230
Total | 967 | 347 |  | 21,220
* Average hourly wage rate for health care innovators is based upon statistics from the Bureau of Labor Statistics, U.S. Department of Labor, Occupational Employment and Wages, May 2012 (http://www.bls.gov/oes/current/oes290000.htm), and was calculated as an average of the mean hourly wage rate for Family and General Practitioners and the mean hourly wage for all occupations in the major group, “Healthcare Practitioners and Technical Occupations”.

Request for Comments

In accordance with the Paperwork Reduction Act, comments on AHRQ's information collection are requested with regard to any of the following: (a) Whether the proposed collection of information is necessary for the proper performance of AHRQ health care research and health care information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: May 29, 2014.
Richard Kronick,
AHRQ Director.

[FR Doc. 2014-14082 Filed 6-16-14; 8:45 am]

BILLING CODE 4160-90-M